DEPARTMENT OF STATE

[Public Notice 6825]

Shipping Coordinating Committee; Notice of Committee Meeting

The Shipping Coordinating Committee (SHC) will conduct an open meeting at 9:30 a.m. on Wednesday, January 18, 2012, in Room 6103 of the United States Coast Guard Headquarters Building, 2100 2nd Street SW., Washington, DC 20593-7126. The primary purpose of the meeting is to prepare for the sixteenth Session of the International Maritime Organization's (IMO) Bulk Liquids and Gases Subcommittee to be held at the IMO Headquarters, United Kingdom, January 30-February 3, 2012.

The primary matters to be considered include:

—Decisions of other IMO bodies

—Evaluation of safety and pollution hazards of chemicals and preparation of consequential amendments

—Development of guidelines and other documents for uniform implementation of the 2004 BWM Convention

—Development of international measures for minimizing the transfer of invasive aquatic species through bio-fouling of ships

—Development of international code of safety for ships using gases or other low flashpoint fuels

—Development of revised IGC Code

—Review of relevant non-mandatory instruments as a consequence of the amended MARPOL Annex VI and the NOX Technical Code

—Development of a code for the transport and handling of limited amounts of hazardous and noxious liquid substances in bulk in offshore support vessels

—Consideration of amendment to SOLAS to mandate enclosed space entry and rescue drills

—Consideration of IACS unified interpretations

—Casualty analysis

—Biennial agenda and provisional agenda for BLG 17

—Election of Chairman and Vice-Chairman for 2013

—Any other business

—Report to the Committees

Members of the public may attend this meeting up to the seating capacity of the room. To facilitate the building security process, and to request reasonable accommodation, those who plan to attend should contact the meeting coordinator, Mr. Thomas Felleisen, by email at Thomas.J.Felleisen@uscg.mil, by phone at (202) 372-1424, by fax at (202) 372-1926, or in writing at Commandant (CG-5223), U.S. Coast Guard, 2100 2nd Street SW., Stop 7126, Washington, DC 20593-7126 not later than January 11, 2012, 7 days prior to the meeting. Requests made after January 11, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: December 22, 2011.
Brian Robinson,
Executive Secretary, Shipping Coordinating Committee, Department of State.

[FR Doc. 2011-33502 Filed 12-28-11; 8:45 am]

BILLING CODE 4710-09-P